FEDERAL COMMUNICATIONS COMMISSION

47 CFR Part 73

[DA 05-551; MB Docket No. 05-67, RM-11116]

Radio Broadcasting Services; Clinton, Fisher, Indianapolis and Lawrence, IN

AGENCY: Federal Communications Commission.

ACTION: Proposed rule.

SUMMARY: The Audio Division requests comments on a petition jointly filed by Indy Lico, Inc. and WFMS Lico, Inc., proposing (1) the upgrade from Channel 230A to Channel 230B1 at Fishers, the reallotment of Channel 230B1 from Fishers to Lawrence, Indiana, and the modification of Station WISG(FM)'s license accordingly; (2) the reallotment of Channel 238B from Indianapolis to Fishers, Indiana, and the modification of Station WFMS(FM)'s license accordingly; and (3) the substitution of Channel 229A for Channel 230A at Clinton, Indiana, to accommodate the Lawrence reallotment. Channel 230B1 can be reallotted to Lawrence in compliance with the Commission's minimum distance separation requirements with a site restriction of 12.6 kilometers (7.8 miles) south at Station WISG(FM)'s requested site. The coordinates for Channel 230B1 at Lawrence are 39-43-37 North Latitude and 86-03-00 West Longitude. See SUPPLEMENTARY INFORMATION, infra.

DATES: Comments must be filed on or before April 25, 2005, reply comments on or before May 10, 2005.

ADDRESSES: Federal Communications Commission, Washington, DC 20554. In addition to filing comments with the FCC, interested parties should serve the petitioner, or its counsel or consultant, as follows: Mark N. Lipp, Esq., Vinson & Elkins, L.L.P., 1455 Pennsylvania Ave., Suite, 600, Washington, DC 2004-1008 (Counsel for Petitioner).

FOR FURTHER INFORMATION CONTACT: Sharon P. McDonald, Media Bureau, (202) 418-2180.

SUPPLEMENTARY INFORMATION: This is a synopsis of the Commission's Notice of Proposed Rule Making, MB Docket No. 05-67, adopted March 2, 2005, and released March 4, 2005. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Additionally, Channel 238B can be reallotted to Fishers at Station WFMS(FM)'s presently licensed site. The coordinates for Channel 238B are 39-46-03 North Latitude and 86-00-12 West Longitude. Channel 229A can be substituted at Clinton at Station WPFM-FM's presently licensed site. The coordinates for Channel 229A at Clinton are 39-33-01 North Latitude and 87-28-32 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Indiana is amended by removing Channel 230A and adding Channel 229A at Clinton; by removing Channel 230A and adding Channel 238B at Fishers; by removing Channel 238B at Indianapolis; and by adding Lawrence, Channel 230B1.

Federal Communications Commission.
John A. Karousos,
Assistant Chief, Audio Division, Media Bureau.

[FR Doc. 05-5313 Filed 3-16-05; 8:45 am]

BILLING CODE 6712-01-P